DEPARTMENT OF COMMERCE

National Oceanic and Atmospheric Administration

Notice of Approval for the Weeks Bay, Alabama National Estuarine Research Reserve Management Plan Revision

AGENCY: Stewardship Division, Office for Coastal Management, National Ocean Service, National Oceanic and Atmospheric Administration, Department of Commerce.

ACTION: Public notice.

SUMMARY: Notice is hereby given that the Stewardship Division, Office for Coastal Management, National Ocean Service, National Oceanic and Atmospheric Administration (NOAA), U.S. Department of Commerce approves the Revised Management Plan for the Weeks Bay National Estuarine Research Reserve (NERR) located in Alabama. Refer to SUPPLEMENTARY INFORMATION for additional information.

FOR FURTHER INFORMATION CONTACT: Matthew Chasse, Stewardship Division, Office for Coastal Management at 240-533-0808 or via email at matt.chasse@noaa.gov.

SUPPLEMENTARY INFORMATION: The National Estuarine Research Reserve System (NERRS) is a federal-state partnership administered by NOAA. The system protects more than 1.3 million acres of estuarine habitat for long-term research, monitoring, education and stewardship throughout the coastal United States. Established by the Coastal Zone Management Act of 1972, as amended, each reserve is managed by a lead state agency or university, with input from local partners. NOAA provides funding and national programmatic guidance.

The revised management plan outlines the administrative structure; the research/monitoring, stewardship, education, and training programs of the reserve; and the plans for future land acquisition and facility development to support reserve operations.

The Weeks Bay Reserve takes an integrated approach to management, linking research, education, coastal training, and stewardship functions. The Alabama Department of Conservation and Natural Resources has outlined how it will administer the Reserve and its core programs by providing detailed actions that will enable it to accomplish specific goals and objectives. Under the previous management plan, the Reserve built out its core programs and monitoring infrastructure; constructed several facilities including a Resource Center that supports education, training, and outreach events; participated in more than 35 research projects and conducted over 100 coastal training program events; convened a permanent Restoration Advisory Board; and built new partnerships with organizations within the Mobile Bay of Alabama.

With the approval of this management plan, the Weeks Bay Reserve will increase their total acreage from 6,594 acres to 9,317 acres. The change is attributable to acquisition of seven tracts acquired by the State of Alabama totaling 933 acres of land and 1,790 acres of water bottoms adjacent to the newly acquired land, totaling 2,723 acres. These parcels have high ecological value and provide increased opportunities for research, education, and restoration. The revised management plan will serve as the guiding document for the 9,317-acre Weeks Bay Reserve for the next five years.

On December 29, 2016, NOAA issued notice of a public meeting and a thirty-day public comment period for the Weeks Bay Reserve Management Plan revision (81 FR 94964). The Weeks Bay, Alabama Reserve Management Plan revision is available at: (http://www.outdooralabama.com/weeks-bay-reserve), and at https://coast.noaa.gov/nerrs/reserves/weeks-bay.html.

Federal Domestic Assistance Catalog 11.420, Coastal Zone Management Program Administration.

Dated: April 7, 2017.
Donna Rivelli,
Deputy Associate Assistant Administrator for Management and CFO/CAO, Ocean Services and Coastal Zone Management, National Oceanic and Atmospheric Administration.

[FR Doc. 2017-07560 Filed 4-13-17; 8:45 am]

BILLING CODE 3510-08-P